NATIONAL AERONAUTICS AND SPACE ADMINISTRATION

[Notice: (20-086)]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for soliciting, from the aeronautics community and other persons, research and technical information relevant to program planning.

DATES: Tuesday, November 10, 2020, 10:00 a.m.-6:00 p.m., Eastern Time.

ADDRESSES: Virtual Meeting via WebEx and Toll-Free telephone only.

FOR FURTHER INFORMATION CONTACT: Ms. Irma Rodriguez, Designated Federal Officer, Aeronautics Research Mission Directorate, NASA Headquarters, Washington, DC 20546, (202) 527-4826, or irma.c.rodriguez@nasa.gov.

SUPPLEMENTARY INFORMATION: As noted above, this meeting will be available telephonically and by WebEx only. The WebEx link is https://nasaenterprise.webex.com, the meeting number is 199 494 0997, and the password is mX47WJPMW8$ (case sensitive). You can also dial in by phone toll-free: 888-769-8716 passcode: 6813159. The agenda for the meeting includes the following topics:

—Capability and workforce strategic planning

—COVID Impacts activities and NASA Return to site plans

—Autonomy Plans

It is imperative that the meeting be held on this date to accommodate the scheduling priorities of the key participants.

Carol Hamilton,
Acting Advisory Committee Management Officer, National Aeronautics and Space Administration.

[FR Doc. 2020-23291 Filed 10-20-20; 8:45 am]

BILLING CODE 7510-13-P